DEPARTMENT OF ENERGY

Federal Energy Regulatory Commission

Notice of FERC Staff Attendance at Southwest Power Pool Regional State Committee Meeting and Southwest Power Pool Board of Directors Meeting

December 22, 2009.

The Federal Energy Regulatory Commission hereby gives notice that members of its staff may attend the meetings of the Southwest Power Pool (SPP) Regional State Committee, and SPP Board of Directors, as noted below. Their attendance is part of the Commission's ongoing outreach efforts.

SPP Regional State Committee Meeting

January 25, 2010 (1 p.m.-5 p.m. CST), Sheraton New Orleans Hotel, 500 Canal Street, New Orleans, LA 70130, 504-525-2500.

SPP Board of Directors Meeting

January 26, 2010 (8 a.m.-3 p.m. CST), Sheraton New Orleans Hotel, 500 Canal Street, New Orleans, LA 70130, 504-525-2500.

The discussions may address matters at issue in the following proceedings:

Docket No. EL09-40, Southwest Power Pool, Inc.

Docket No. ER06-451, Southwest Power Pool, Inc.

Docket No. ER08-923, Xcel Energy Services, Inc.

Docket No. ER08-1307, Southwest Power Pool, Inc.

Docket No. ER08-1308, Southwest Power Pool, Inc.

Docket No. ER08-1357, Southwest Power Pool, Inc.

Docket No. ER08-1358, Southwest Power Pool, Inc.

Docket No. ER08-1359, Southwest Power Pool, Inc.

Docket No. ER08-1419, Southwest Power Pool, Inc.

Docket No. ER09-35, Tallgrass Transmission LLC.

Docket No. ER09-36, Prairie Wind Transmission LLC.

Docket No. ER09-1397, Southwest Power Pool, Inc.

Docket No. ER09-1562, Southwest Power Pool, Inc.

Docket No. ER09-659, Southwest Power Pool, Inc.

Docket No. ER09-1050, Southwest Power Pool, Inc.

Docket No. ER09-1254, Southwest Power Pool, Inc.

Docket No. ER09-1255, Southwest Power Pool, Inc.

Docket No. ER09-1397, Southwest Power Pool, Inc.

Docket No. ER09-1716, Southwest Power Pool, Inc.

Docket No. ER09-1740, Southwest Power Pool, Inc.

Docket No. ER10-144, Southwest Power Pool, Inc.

Docket No. ER10-181, Southwest Power Pool, Inc.

Docket No. ER10-195, Southwest Power Pool, Inc.

Docket No. ER10-196, Southwest Power Pool, Inc.

Docket No. ER10-197, Southwest Power Pool, Inc.

Docket No. ER10-215, Southwest Power Pool, Inc.

Docket No. ER10-242, Southwest Power Pool, Inc.

Docket No. ER10-261, Southwest Power Pool, Inc.

Docket No. ER10-267, Southwest Power Pool, Inc.

Docket No. ER10-273-000, Southwest Power Pool, Inc.

Docket No. ER10-329, Southwest Power Pool, Inc.

Docket No. ER10-330, Southwest Power Pool, Inc.

Docket No. ER10-331, Southwest Power Pool, Inc.

Docket No. ER10-333, Southwest Power Pool, Inc.

Docket No. ER10-334, Southwest Power Pool, Inc.

Docket No. ER10-335, Southwest Power Pool, Inc.

Docket No. ER10-336, Southwest Power Pool, Inc.

Docket No. ER10-337, Southwest Power Pool, Inc.

Docket No. ER10-338, Southwest Power Pool, Inc.

Docket No. ER10-339, Southwest Power Pool, Inc.

Docket No. ER10-341, Southwest Power Pool, Inc.

Docket No. ER10-353, Southwest Power Pool, Inc.

Docket No. ER10-368, Southwest Power Pool, Inc.

Docket No. ER10-370, Southwest Power Pool, Inc.

Docket No. ER10-376, Southwest Power Pool, Inc.

Docket No. ER10-380, Southwest Power Pool, Inc.

Docket No. ER10-368, Southwest Power Pool, Inc.

Docket No. ER09-342, Southwest Power Pool, Inc.

Docket No. ER10-352, Southwest Power Pool, Inc.

Docket No. ER10-364, Southwest Power Pool, Inc.

Docket No. ER10-365, Southwest Power Pool, Inc.

Docket No. OA08-5, Southwest Power Pool, Inc.

Docket No. OA08-60, Southwest Power Pool, Inc.

Docket No. OA08-61, Southwest Power Pool, Inc.

Docket No. OA08-104, Southwest Power Pool, Inc.

These meetings are open to the public.

For more information, contact Patrick Clarey, Office of Energy Market Regulation, Federal Energy Regulatory Commission at (317) 249-5937 or patrick.clarey@ferc.gov.

Kimberly D. Bose,
Secretary.

[FR Doc. E9-30817 Filed 12-28-09; 8:45 am]

BILLING CODE 6717-01-P